DEPARTMENT OF DEFENSE

Office of the Secretary

[Transmittal No. 23-12]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-12, Policy Justification, and Sensitivity of Technology.

Dated: September 9, 2024.
Aaron T. Siegel,
Alternate OSD Federal Register Liaison Officer, Department of Defense.

BILLING CODE 6001-FR-P

BILLING CODE 6001-FR-C

Transmittal No. 23-12

Notice of Proposed Issuance of Letter of Offer Pursuant to Section 36(b)(1) of the Arms Export Control Act, as amended

(i) Prospective Purchaser: Government of Greece

(ii) Total Estimated Value:

Major Defense Equipment * | $163.3 million
Other | $104.7 million
TOTAL | $268.0 million

Funding Sources: National Funds ($243.0 million)

Foreign Military Financing ($25.0 million)

(iii) Description and Quantity or Quantities of Articles or Services Under Consideration for Purchase:

Major Defense Equipment (MDE):

Sixty-three (63) Assault Amphibious Vehicles, Personnel Variant (AAVP-7A1)

Nine (9) Assault Amphibious Vehicles, Command Variant (AAVC-7A1)

Four (4) Assault Amphibious Vehicles, Recovery Variant (AAVR-7A1)

Sixty-three (63) 50-Caliber Machine Guns (Heavy Barrel)

Non-MDE:

Also included are MK-19 Grenade Launchers; M36E T1 Thermal Sighting Systems (TSS), supply support (spare parts), support equipment (including special mission kits/tools/Enhanced Applique Kits (EAAK)), training, technical manuals (UNCLASSIFIED), technical data, U.S. Government and contractor engineering, technical support and assistance (including Contractor Engineering Technical Services (CETS)), Integrated Logistic Support (ILS) management services, parts obsolescence remediation, calibration services transportation, Follow-on Support (FOS), Return, Repair and Reshipment of unserviceable repairable items/equipment, applicable software and apparel, and other related elements of logistics and program support.

(iv) Military Department: Navy (GR-P-SCO)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: March 17, 2023.

* As defined in Section 47(6) of the Arms Export Control Act.

POLICY JUSTIFICATION

Greece—Assault Amphibious Vehicles

The Government of Greece has requested to buy sixty-three (63) Assault Amphibious Vehicles, Personnel Variant (AAVP-7A1), nine (9) Assault Amphibious Vehicles, Command Variant (AAVC-7A1), four (4) Assault Amphibious Vehicles, Recovery Variant (AAVR-7A1), and sixty-three (63) 50-Caliber Machine Guns (Heavy Barrel). Also included are MK-19 Grenade Launchers, M36E T1 Thermal Sighting Systems (TSS), supply support (spare parts), support equipment (including special mission kits/tools/Enhanced Applique Kits (EAAK)), training, technical manuals (UNCLASSIFIED), technical data, U.S. Government and contractor engineering, technical support and assistance (including Contractor Engineering Technical Services (CETS)), Integrated Logistic Support (ILS) management services, parts obsolescence remediation, calibration services, transportation, Follow-on Support (FOS), Return, Repair and Reshipment of unserviceable repairable items/equipment, applicable software and apparel, and other related elements of logistics and program support. The estimated total cost is $268 million.

This proposed sale will support the foreign policy and national security objectives of the United States by helping to improve the security of a NATO ally, which is an important partner for political stability and economic progress in Europe.

This proposed sale will improve Greece's capability to meet current and future threats by providing an effective capability to protect maritime interests and infrastructure in support of its strategic location on NATO's southern flank. Greece contributes to NATO operations, as well as to counterterrorism and counter-piracy maritime efforts. Greece will have no difficulty absorbing these articles and services into its armed forces.

The proposed sale of this equipment and support will not alter the basic military balance in the region.

There is not a principal contractor associated with this potential sale. Consequently, there are no known offset agreements proposed in connection with this potential sale.

Implementation of this proposed sale will not require the assignment of U.S. Government personnel, but will require one (1) contractor representative, Full-Time Equivalent (FTE) position to Greece to deliver Assault Amphibious Vehicles, related equipment and support.

There will be no adverse impact on U.S. defense readiness as a result of this proposed sale.

Transmittal No. 23-12

Notice of Proposed Issuance of Letter of Offer Pursuant to Section 36(b)(1) of the Arms Export Control Act

Annex

Item No. vii

(vii) Sensitivity of Technology:

1. The mission of the Assault Amphibious Vehicle (AAV) is to maneuver surface assault elements of the landing force and their equipment from assault shipping during amphibious operations to inland objectives and to conduct mechanized operations and related combat support in subsequent operations ashore.

The AAV-7A1 Family of Vehicles includes the Personnel variant which carries troops in amphibious operations from ship to shore, through the surf zone and to inland objectives. The AAVP-7A1 provides protected transport for up to 25 combat-loaded personnel through all types of terrain. The Command Variant, AAVC-7A1, is an armored assault amphibious full-tracked landing vehicle. The vehicle provides a mobile task force communication center in amphibious operations from ship to shore through the surf zone to inland objectives. The Recovery Variant, AAVR-7A1, is an armored assault amphibious full-tracked vehicle. The vehicle is designed to recover similar or smaller sized vehicles. It also carries basic maintenance equipment to provide field support maintenance to vehicles in the field.

2. The highest level of classification of defense articles, components, and services included in this potential sale is SECRET.

3. If a technologically advanced adversary were to obtain knowledge of the hardware and software elements, the information could be used to develop countermeasures or equivalent systems which might reduce system effectiveness or be used in the development of a system with similar or advanced capabilities.

4. A determination has been made that Greece can provide substantially the same degree of protection for the sensitive technology being released as the U.S. Government. This sale is necessary in furtherance of the U.S. foreign policy and national security objectives outlined in the Policy Justification.

5. All defense articles and services listed in this transmittal have been authorized for release and export to Greece.

[FR Doc. 2024-20738 Filed 9-11-24; 8:45 am]

BILLING CODE 6001-FR-P